DEPARTMENT OF STATE

[Public Notice 7914]

30-Day Notice of Proposed Information Collection: Form DS-7002, Training/Internship Placement Plan, OMB Control Number 1405-0170

ACTION: Notice of request for public comment and submission to OMB of proposed collection of information.

SUMMARY: The Department of State has submitted the following information collection request to the Office of Management and Budget (OMB) for approval in accordance with the Paperwork Reduction Act of 1995.

• Title of Information Collection: Training/Internship Placement Plan.

• OMB Control Number: 1405-0170.

• Type of Request: Revision of a Currently Approved Collection.

• Originating Office: Bureau of Educational and Cultural Affairs, ECA/EC.

• Form Number: Form DS-7002.

• Respondents: Entities designated by the Department of State as sponsors of exchange visitor programs in the trainee or intern categories and U.S. businesses that provide the training or internship opportunity.

• Estimated Number of Respondents: 160.

• Estimated Number of Responses: 30,000.

• Average Hours per Response: 2 hours.

• Total Estimated Burden: 60,000 hours.

• Frequency: On occasion.

• Obligation to Respond: Required to Obtain a Benefit.

DATES: Submit comments to the Office of Management and Budget (OMB) for up to 30 days from June 6, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Robin J. Lerner, Deputy Assistant Secretary for Private Sector Exchange, U.S. Department of State, SA-5, 2200 C Street NW., Floor 5, Washington, DC 20522; or email at jexchanges@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection: The collection is the continuation of information collected and needed by the Bureau of Educational and Cultural Affairs in administering the Exchange Visitor Program (J-Visa) under the provisions of the Mutual Educational and Cultural Exchange Act, as amended. Trainee/Internship Placement Plans are to be completed by designated program sponsors. A Training/Internship Placement Plan is required for each trainee or intern participant. It will set forth the training or internship program to be followed and includes the skills the trainee or intern will obtain, whether the trainee or intern will receive any remuneration for housing and living expenses (and if so, the amount), and estimates the living expenses and other costs the trainees or interns are likely to incur while in the United States. The Plan must be signed by the trainee or intern, a sponsor official, and the third party placement organization, if a third party organization is used in the conduct of the training or internship.

Methodology: The collection will be submitted to the Department by mail or fax as requested by DoS during the review of a program sponsor's file, redesignation of a sponsor organization, or during the investigation of a complaint or incident.

Dated: May 22, 2012.
Robin J. Lerner,
Deputy Assistant Secretary for Private Sector Exchange, Bureau of Educational and Cultural Affairs, Department of State.

[FR Doc. 2012-13708 Filed 6-5-12; 8:45 am]

BILLING CODE 4710-05-P